ENVIRONMENTAL PROTECTION AGENCY

[ER-FRL-6686-8]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167.

An explanation of the ratings assigned to draft environmental impact statements (EISs) was published in FR dated April 6, 2007 (72 FR 17156).

Draft EISs

EIS No. 20070033, ERP No. D-FTA-C54010-00, Access to the Region's Core Project, To Increase Trans-Hudson Commuter Rail Capacity, Improve System Safety and Reliability between Secaucus Junction Station in NJ and midtown Manhattan, Funding, Hudson County, NJ and New York County, NY.

Summary: EPA expressed environmental concerns about impacts to wetlands and air quality. EPA recommends that FTA provides more information on cumulative impacts as well as a wetlands mitigation plan. Rating EC2.

EIS No. 20070078, ERP No. D-NPS-C61011-NY, Sagamore Hill National Historic Site, General Management Plan, Implementation, Oyster Bay, Nassau County, NY.

Summary: EPA does not object to the proposed action. Rating LO.

EIS No. 20070097, ERP No. D-NOA-A91075-00, Programmatic—Marine Mammal Health and Stranding Response Program (MMHSRP), Day-to-Day Operation on Stranding, Response, Rehabilitation, Release, and Disentanglement Activities.

Summary: EPA does not object to the proposed project.

However, EPA did request that NMFS clarify questions pertaining to water quality, contaminants, and human health. Rating LO.

Final EISs

EIS No. 20070057, ERP No. F-FHW-E40763-NC, Winston-Salem Northern Beltway, ( Eastern Section) U.S. 52 south to I-40 Business and I-40 Business south to U.S. 311, Improvements to the Surface Transportation Network, TIP Project Nos. U2579 and U-2579A, Forsyth County, NC ( This EIS #20070057 and EIS #20070058 are combined in a single document.)

Summary: EPA continues to have environmental concerns about impacts to streams, terrestrial forest habitat, and impacts to migratory birds. EPA recommends that the Record of Decision disclose planned mitigation for these impacts.

EIS No. 20070106, ERP No. F-FRC-H03002-00, Rockies Express Western Phase Project, Construction and Operation for the Natural Gas Pipeline Facilities: Rockies Express (CP06-354-000), TransColorado (CP06-401-000) and Overthrust (CP06-423-000), CO, WY, NE, KS, MO and NM.

Summary: EPA does not object to the proposed project, but recommends additional consideration be given to potential invasive species transfer via hydrostatic testing.

Dated: May 8, 2007.
Ken Mittelholtz,
Environmental Protection Specialist, Office of Federal Activities.

[FR Doc. E7-9138 Filed 5-10-07; 8:45 am]

BILLING CODE 6560-50-P